DEPARTMENT OF THE INTERIOR

Fish and Wildlife Service

Availability of a Draft Environmental Assessment on Proposed Special Regulations for the Preble's Meadow Jumping Mouse

AGENCY: Fish and Wildlife Service, Interior.

ACTION: Notice of availability of a draft environmental assessment for proposed special regulations for the Preble's meadow jumping mouse.

SUMMARY: This Notice advises the public of the availability of a draft environmental assessment on proposed special regulations for the Preble's meadow jumping mouse (Zapus hudsonius preblei). These regulations apply within the range of the species which includes portions of Boulder, Douglas, El Paso, Jefferson, and Weld counties in Colorado and Laramie and Goshen counties in Wyoming.

The proposed special regulations identify specific locations and situations under which take of the Preble's meadow jumping mouse would not be prohibited by the Endangered Species Act. This environmental assessment considers the biological, environmental, and socio-economic effects of these proposed regulations. The assessment also evaluates four alternative actions and their potential impact on the environment. Written comments or recommendations concerning the proposal are welcomed and should be sent to the address below (see ADDRESSEES).

DATES: To be considered, written comments and materials should be received on or before September 1, 2000. All comments received by the end of this comment period will be considered in preparation of a Finding of No Significant Impact. All comments received on an environmental assessment become part of the official public record. Requests for such comments will be handled in accordance with the Freedom of Information Act and the Council on Environmental Quality's National Environmental Policy Act regulations (40 CFR 1506.6(f)). When requested, comment letters with the names and addresses of the individuals who wrote the comments will generally be provided. However, the telephone number of the commenting individual will not be provided in response to such requests to the extent permissible by law. Individual respondents may request that we withhold their home address from the record, which we will honor to the extent allowable by law. If you wish to withhold your name and/or address, you must state this prominently at the beginning of your comments.

ADDRESSES: Comments and requests for copies of the assessment should be submitted to the Field Supervisor, U.S. Fish and Wildlife Service, 755 Parfet Street, Suite 61, Lakewood, Colorado 80215, telephone (303) 274-2370.

SUPPLEMENTARY INFORMATION The Preble's meadow jumping mouse is known to occur only in portions of Colorado and Wyoming. The final rule listing the Preble's as a threatened species under the Endangered Species Act was published in the Federal Register on May 13, 1998 (63 FR 26517). Section 4(d) of the Endangered Species Act (U.S.C. Section 1533) provides that whenever a species is listed as a threatened species, the Secretary of the Department of the Interior will issue regulations deemed necessary and advisable to provide for the conservation of the species. On December 3, 1998, we proposed special regulations for the Preble's meadow jumping mouse under Section 4(d) of the Act and published them in the Federal Register (63 FR 66777), and at the same time, a public review period on the proposed special regulations was initiated. The public comment period closed on February 1, 1999. We reopened the public comment period on March 16, 1999, (64 FR 12924) and it closed on April 30, 1999.

In these regulations, we proposed to designate specific locations known to be occupied or potentially occupied by this species as Mouse Protection Areas or Potential Mouse Protection Areas. Section 9 prohibitions against take of this species would not apply to activities occurring outside of these designated areas, but would remain applicable to activities conducted within these designated areas. In addition, we proposed that Section 9 prohibitions against take of the species would not apply to four categories of activities that might occur within the species' habitat. These four categories of activities for which take of the species was exempted are—(1) rodent control activities, (2) ongoing agricultural activities, (3) existing landscaping activities, and (4) existing uses of perfected water rights. We also described a fifth range-wide exemption pertaining to periodic maintenance of existing water supply ditches. We considered this fifth exemption but did not propose it.

We have prepared an environmental assessment of the proposed special regulations for the Preble's meadow jumping mouse and other alternatives that we considered and, at this time, we would like make this assessment available for public review and comment.

Dated: July 26, 2000.
Elliott Sutta,
Acting Deputy, Regional Director, Denver, Colorado.

[FR Doc. 00-19468 Filed 8-1-00; 8:45 am]

BILLING CODE 4310-55-P